DEPARTMENT OF VETERANS AFFAIRS

Research Advisory Committee on Gulf War Veterans' Illnesses; Notice of Meeting

The Department of Veterans Affairs (VA) gives notice under the Federal Advisory Committee Act, 5 U.S.C., App. 2, that the Research Advisory Committee on Gulf War Veterans' Illnesses will conduct a telephone conference call meeting from 3:00 p.m. to 5:30 p.m. (EDT) on June 25, 2016. The toll-free number for the meeting is (800) 767-1750, and the access code is 56978#. All sessions are open to the public.

The purpose of the Committee is to provide advice and make recommendations to the Secretary of Veterans Affairs on proposed research studies, research plans, and research strategies relating to the health consequences of military service in the Southwest Asia Theater of Operations during the Gulf War in 1990-1991.

The Committee will discuss draft recommendations regarding future VA research directions and other Committee business.

A 30-minute period will be reserved at 5:00 p.m. (EDT) for public comments. Individuals who wish to address the Committee may submit a 1-2 page summary of their comments for inclusion in the official meeting record. Members of the public may also submit written statements for the Committee's review to Dr. Victor Kalasinsky via email at victor.kalasinsky@va.gov. Any member of the public seeking additional information should contact Dr. Kalasinsky, Designated Federal Officer, at (202) 443-5600.

Dated: June 2, 2016.
Jelessa Burney,
Federal Advisory Committee Management Officer.

[FR Doc. 2016-13383 Filed 6-6-16; 8:45 am]

BILLING CODE P